SOCIAL SECURITY ADMINISTRATION

20 CFR Part 416

[Regulations No.16]

RIN-0960-AG00

Rules for Helping Blind and Disabled Individuals Achieve Self-Support

AGENCY: Social Security Administration.

ACTION: Notice of proposed rulemaking.

SUMMARY: We are proposing to amend our regulations to implement section 203 of the Social Security Independence and Program Improvements Act of 1994. Section 203 of this law amended section 1633 of the Social Security Act to require us to establish by regulations criteria for time limits and other criteria related to plans to achieve self-support (PASS). The law requires that the time limits take into account the length of time that a person needs to achieve his or her employment goal, within a reasonable period, and other factors as determined by the Commissioner to be appropriate.

A PASS allows some people who receive or are eligible for Supplemental Security Income (SSI) disability benefits to set aside part of their income and/or resources to meet an employment goal. The income and/or resources set aside under a PASS will not be counted in determining the amount of the person's SSI payment or his or her eligibility.

DATES: To be sure that your comments are considered, we must receive them by September 9, 2005.

ADDRESSES: You may give us your comments by using: Our Internet site facility (i.e., Social Security Online) at http://policy.ssa.gov/pnpublic.nsf/LawsRegs or the Federal eRulemaking Portal: http://www.regulations.gov; e-mail to regulations@ssa.gov; telefax to (410) 966-2830, or letter to the Commissioner of Social Security, P.O. Box 17703, Baltimore, MD 21235-7703. You may also deliver them to the Office of Regulations, Social Security Administration, 100 Altmeyer Building, 6401 Security Boulevard, Baltimore, Maryland 21235-6401, between 8 a.m. and 4:30 p.m. on regular business days. Comments are posted on our Internet site, or you may inspect them on regular business days by making arrangements with the contact person shown in this preamble.

Electronic Version: The electronic file of this document is available on the date of publication in the Federal Register at: http://www.gpoaccess.gov/fr/index.html. It is also available on the Internet site for SSA (i.e., Social Security Online): http://policy.ssa.gov/pnpublic.nsf/LawsRegs.

FOR FURTHER INFORMATION CONTACT: Mary Hoover, Policy Analyst, Office of Program Development and Research, Social Security Administration, 6401 Security Boulevard, Baltimore, MD 21235-6401. Call (410) 965-5651 or TTY 1-800-325-0778 for information about these proposed rules. For information on eligibility or filing for benefits, call our national toll-free number 1-(800) 772-1213 or TTY 1-(800) 325-0778. You may also contact Social Security Online at http://www.socialsecurity.gov/.

SUPPLEMENTARY INFORMATION:

What Is the Purpose of This Notice of Proposed Rulemaking (NPRM)?

In this NPRM, we propose to amend our regulations to implement section 203 of the Social Security Independence and Program Improvements Act of 1994 (Pub. L. 103-296). This law amended section 1633 of the Social Security Act to provide that, as of January 1, 1995, in establishing time limits and other criteria related to a PASS, we take into account the length of time that you will need to achieve your employment goal, within a reasonable period, and other factors as determined by the Commissioner to be appropriate. This requirement for a more individualized time limit voided the time limit requirements for PASS in our existing regulations, which provided for an initial period of not more than 18 months, an extension of up to an additional 18 months, and a maximum of 48 months. We propose to revise the current rules to take into account your individual needs and your employment goal in determining what a reasonable length of time is to achieve your employment goal. These proposed revisions will add language to some of our rules describing the information that must be contained in a PASS. They will clarify requirements currently in our PASS rules and operating procedures. These revisions do not reflect a change in policy because after the enactment of Pub. L. 103-296, we updated our operating manual to reflect the need for a more individualized assessment of a PASS time limit.

What Is a Plan to Achieve Self-Support (PASS)?

A PASS allows people who are blind or disabled and who receive, are eligible for, or are applying for SSI, to set aside income and/or resources for expenses needed in meeting an employment goal. We will not count the income and/or resources set aside under a PASS in determining your eligibility for and receipt of SSI. If you receive title II disability benefits, you may also use a PASS to meet an employment goal if you:

• Would meet all other income and resource eligibility requirements for SSI if some or all of your title II benefit was excluded;

• Apply for SSI; and

• Develop an approved PASS that sets aside some or all of your title II benefit towards meeting an employment goal.

The purpose of a PASS is to help people who are blind or disabled become self-supporting. A PASS must meet specific requirements that are set out in our regulations at 20 CFR 416.1180 through 416.1182 and in chapter SI 00870 of our Program Operations Manual at: http://policy.ssa.gov/poms.nsf/partlist?OpenView. It must be individualized with an employment goal that is feasible and with a plan to reach that employment goal that is viable for you. It must be in writing, contain reasonable start and ending dates for meeting your employment goal, and establish target dates for milestones, i.e. intermediate steps, towards attainment of your goal. It must be approved by us, and we will review your progress under the plan at least annually.

What Revisions Are We Proposing To Make and Why?

As of January 1, 1995, section 1633(d) of the Act requires that, in establishing time limits and other criteria for a PASS, we consider the reasonable amount of time that a person needs to meet his or her employment goal and other factors that we determine are appropriate.

We propose to revise our rules to eliminate the current monthly time limits and to add rules that will take into account your individual needs and your employment goal in determining what a reasonable length of time is for you to achieve that goal. These proposed revisions will describe the requirements for and contents of a PASS to clarify requirements currently in our PASS rules and operating procedures. These revisions will clarify that a PASS must have a feasible employment goal and a viable plan to reach that goal, have reasonable beginning and ending dates, include target dates for milestones toward completion of the goal, and that we will review progress under a plan at least annually. We will help you establish a reasonable ending date. We may adjust or extend the ending date of your PASS based on progress towards your goal and earnings level reached. We will review your PASS progress at least annually to determine if you continue to follow the provisions of your PASS.

The following is an explanation of the specific changes we are proposing and our reasons for making these proposals:

We propose to revise § 416.1180 by adding that we will exclude income used to meet expenses that are reasonable and necessary to fulfill an approved PASS. In addition, we propose to revise § 416.1225 to clarify that we will not count resources that are used for expenses that are reasonable and necessary to fulfill a PASS. Requiring that the expenses be reasonable and necessary to fulfill a PASS is not a change in policy. It is contained in our operating procedures.

We propose to revise § 416.1181 to list the requirements of a PASS that sets aside income to meet an employment goal and § 416.1226 to list the requirements of a PASS that sets aside resources to meet an employment goal. A PASS must be individualized, be in writing, specify an employment goal that is feasible, include a plan to reach the goal that is viable for you, and contain a reasonable start and ending date for meeting your employment goal. You must propose a reasonable ending date to your PASS. If necessary, we will help you establish an ending date, which may be different than the ending date that you propose. Once the ending date is set and you begin following a PASS, we may adjust or extend the PASS ending date based on progress towards your goal and earnings level reached. We will review your PASS progress at least annually to determine if you continue to follow the provisions of your PASS.

A PASS must include target dates for milestones and must be approved by us. We will review your progress at least annually. A PASS that sets aside income or resources must show anticipated expenses and explain how they are necessary for the employment goal. It must show anticipated income (or resources you have and will receive) and explain how the income or resources will be used to meet expenses towards the employment goal. It must show how the money or resources set aside under a PASS will be kept separate from other funds or resources. It must show how living expenses will be met while the PASS is in effect. If the employment goal is self-employment, it must include a plan that defines the business, provides a marketing strategy, details financial data, outlines the operational procedures, and describes the management plan.

Clarity of These Proposed Rules

Executive Order (E.O.) 12866, as amended by E.O. 13258, requires each agency to write all rules in plain language. In addition to your substantive comments on these proposed rules, we invite your comments on how to make them easier to understand.

For example:

• Have we organized the material to suit your needs?

• Are the requirements in the rules clearly stated?

• Do the rules contain technical language or jargon that isn't clear?

• Would a different format (grouping and order of sections, use of headings, paragraphing) make the rules easier to understand?

• Would more (but shorter) sections be better?

• Could we improve clarity by adding tables, lists, or diagrams?

• What else could we do to make the rules easier to understand?

Regulatory Procedures

Executive Order (E.O.) 12866

We have consulted with the Office of Management and Budget (OMB) and determined that these proposed rules meet the criteria for a significant regulatory action under E.O. 12866, as amended by E.O. 13256. Thus, they were subject to OMB review.

Regulatory Flexibility Act

We certify that these regulations would not have a significant economic impact on a substantial number of small entities because they affect only individuals. Thus, a regulatory flexibility analysis as provided in the Regulatory Flexibility Act, as amended, is not required.

Paperwork Reduction Act

These proposed rules contain reporting requirements in §§ 416.1181 and 416.1226. The public reporting burden is accounted for in the Information Collection Request for the form that the public uses to submit the information to SSA. Therefore, a one hour placeholder burden is being assigned to the specific reporting requirement(s) contained in these rules; we are seeking clearance of this burden because it was not considered during the clearance of the form.

An Information Collection Request has been submitted to OMB for clearance. We are soliciting comments on the burden estimate; the need for the information; its practical utility; ways to enhance its quality, utility, and clarity; and on ways to minimize the burden on respondents, including the use of automated collection techniques or other forms of information technology. Comments can be received for up to 60 days after publication of this notice and will be most useful if received within 30 days of publication. To receive a copy of the OMB clearance package, you may call the SSA Reports Clearance Officer on 410-965-0454. Comments should be submitted and/or faxed to OMB and SSA at the following address/numbers:

Office of Management and Budget, Attn: Desk Officer for SSA, Fax Number: 202-395-6974.

Social Security Administration, Attn: SSA Reports Clearance Officer, Room 1338 Annex Building, 6401 Security Blvd., Baltimore, MD 21235-6401, Fax Number: 410-965-6400.

(Catalog of Federal Domestic Assistance Programs Nos. 96.001, Social Security—Disability Insurance; 96.002, Social Security—Retirement Insurance; 96.004, Social Security—Survivors Insurance; 96.006, Supplemental Security Income)

List of Subjects in 20 CFR Part 416

Administrative practice and procedure, Aged, Blind, Disability benefits, Public assistance programs, Supplemental Security Income, Reporting and recordkeeping requirements.

Dated: April 4, 2005.
Jo Anne B. Barnhart,
Commissioner of Social Security.

For the reasons set out in the preamble, we propose to amend subpart K and L of part 416 of chapter III of title 20 of the Code of Federal Regulations as set forth below:

PART 416—SUPPLEMENTAL SECURITY INCOME FOR THE AGED, BLIND, AND DISABLED

Subpart K—Income [Amended]

1. The authority citation for subpart K is revised to read as follows:

Authority: Secs. 702(1)(5), 1602, 1611, 1612, 1613, 1614(f), 1621, 1631, and 1633 of the Social Security Act (42 U.S.C. 902(a)(5), 1381a, 1382, 1382a, 1382b, 1382c(f), 1382j, 1383, and 1383b); sec. 211, Pub. L. 93-66, 87 Stat. 154 (42 U.S.C. 1382 note).

2. The second sentence of § 416.1180 is revised to read as follows:

§ 416.1180 General.

* * * If you are blind or disabled, we will pay you SSI benefits and will not count the part of your income (for example, your or a family member's wages, title II benefits, or pensions) that you use or set aside to use for expenses that we determine to be reasonable and necessary to fulfill an approved plan to become self-supporting. * * *

3. Section 416.1181 is revised to read as follows:

§ 416.1181 What is a plan to achieve self-support (PASS)?

(a) A PASS must—

(1) Be designed especially for you;

(2) Be in writing;

(3) Be approved by us (a change of plan must also be approved by us);

(4) Have a specific employment goal that is feasible and a plan to reach it that is viable for you;

(5) Be limited to one employment goal; however, the employment goal may be modified and any changes related to the modification must be made to the plan;

(6) Show how the employment goal will generate sufficient earnings to substantially reduce or eliminate your dependence on SSI or eliminate your need for title II disability benefits;

(7) Contain a beginning date and a reasonable ending date to meet your employment goal;

(8) Give target dates for meeting milestones towards your employment goal;

(9) Show what expenses you will have and how they are reasonable and necessary to meet your employment goal;

(10) Show what money you have and will receive, how you will use or spend it to attain your employment goal, and how you will meet your living expenses; and

(11) Show how the money you set aside under the plan will be kept separate from your other funds.

(b) You must propose a reasonable ending date for your PASS. If necessary, we can help you establish an ending date, which may be different than the ending date you propose. Once the ending date is set and you begin your PASS, we may adjust or extend the ending date of your PASS based on progress towards your goal and earnings level reached.

(c) If your employment goal is self-employment, you must include a business plan that defines the business, provides a marketing strategy, details financial data, outlines the operational procedures, and describes the management plan.

(d) Your progress will be reviewed at least annually to determine if you are following the provisions of your plan.

Subpart L—[Amended]

4. The authority citation for subpart L is revised to read as follows:

Authority: Secs. 702(a)(5), 1602, 1611, 1612, 1613, 1614(f), 1621, 1631, and 1633 of the Social Security Act (42 U.S.C. 902(a)(5), 1381a, 1382, 1382a, 1382b, 1382c(f), 1382j, 1383, and 1383b); sec. 211, Pub. L. 93-66, 87 Stat. 154 (42 U.S.C. 1382 note).

5. Section 416.1225 is revised to read as follows:

§ 416.1225 An approved plan to achieve self-support; general.

If you are blind or disabled, we will pay you SSI benefits and will not count resources that you use or set aside for expenses that we determine to be reasonable and necessary to fulfill an approved plan to achieve self-support.

6. Section 416.1226 is revised to read as follows:

§ 416.1226 What is a plan to achieve self-support (PASS)?

(a) A PASS must—

(1) Be designed especially for you;

(2) Be in writing;

(3) Be approved by us (a change of plan must also be approved by us);

(4) Have a specific employment goal that is feasible and a plan to reach it that is viable for you;

(5) Be limited to one employment goal; however, the employment goal may be modified and any changes related to the modification must be made to the plan;

(6) Show how the employment goal will generate sufficient earnings to substantially reduce your dependence on SSI or eliminate your need for title II disability benefits;

(7) Contain a beginning date and a reasonable ending date to meet your employment goal;

(8) Give target dates for meeting milestones towards your employment goal;

(9) Show what expenses you will have and how they are reasonable and necessary to meet your employment goal;

(10) Show what resources you have and will receive, how you will use them to attain your employment goal, and how you will meet your living expenses; and

(11) Show how the resources you set aside under the plan will be kept separate from your other resources.

(b) You must propose a reasonable ending date for your PASS. If necessary, we can help you establish an ending date, which may be different than the ending date you propose. Once the ending date is set and you begin your PASS, we may adjust or extend the ending date of your PASS based on your progress towards your goal and earnings level reached.

(c) If your employment goal is self-employment, you must include a business plan that defines the business, provides a marketing strategy, details financial data, outlines the operational procedures, and describes the management plan.

(d) Your progress will be reviewed at least annually to determine if you are following the provisions of your plan.

[FR Doc. 05-13584 Filed 7-8-05; 8:45 am]

BILLING CODE 4191-02-P